FEDERAL ACCOUNTING STANDARDS ADVISORY BOARD

Notice of Concepts Statement Exposure Draft Distinguishing Basic Information, Required Supplementary Information, and Other Accompanying Information and Scheduled Meeting Dates for 2009

Board Action: Pursuant to 31 U.S.C. 3511(d), the Federal Advisory Committee Act (Pub. L. 92-463), as amended, and the FASAB Rules of Procedure, as amended in April, 2004, notice is hereby given that the Federal Accounting Standards Advisory Board (FASAB) has issued a Concepts Statement Exposure Draft, Distinguishing Basic Information, Required Supplementary Information, and Other Accompanying Information.

The Concepts Statement Exposure Draft proposes amendments to Statement of Federal Financial Accounting Concepts 2, Entity and Display, to provide conceptual guidance for determining how information in financial reports should be categorized. The Concepts Statement Exposure Draft is available on the FASAB home page http://www.fasab.gov/exposure.html. Copies can be obtained by contacting FASAB at (202) 512-7350. Respondents are encouraged to comment on any part of the exposure draft. Written comments are requested by June 26th, 2008, and should be sent to: Wendy M. Payne, Executive Director, Federal Accounting Standards Advisory Board, 441 G Street, NW., Suite 6814, Mail Stop 6K17V, Washington, DC 20548.

Notice is also given that the FASAB will meet on the following dates in room 7C13 of the U.S. Government Accountability Office (GAO) Building (441 G Street, NW.) unless otherwise noted:

—Wednesday and Thursday, February 25 and 26, 2009.

—Wednesday and Thursday, April 22 and 23, 2009.

—Wednesday and Thursday, June 17 and 18, 2009.

—Wednesday and Thursday, August 26 and 27, 2009.

—Wednesday and Thursday, October 21 and 22, 2009.

—Wednesday and Thursday, December 16 and 17, 2009.

The purposes of the meetings are to discuss issues related to:

—FASAB's conceptual framework.

—Stewardship Reporting.

—Social Insurance.

—Natural Resources.

—Technical Agenda.

—Any other topics as needed.

A more detailed agenda can be obtained from the FASAB Web site (http://www.fasab.gov) one week prior to each meeting.

Any interested person may attend the meetings as an observer. Board discussion and reviews are open to the public. GAO Building Security requires advance notice of your attendance. Please notify FASAB of your planned attendance by calling 202-512-7350 at least one day prior to the respective meeting.

FOR FURTHER INFORMATION CONTACT: Wendy Payne, Executive Director, 441 G Street, NW., Washington, DC 20548, or call (202) 512-7350.

Authority: Federal Advisory Committee Act, Pub. L. 92-463.

Dated: March 29, 2008.
Charles Jackson,
Federal Register Liaison Officer.

[FR Doc. E8-6809 Filed 4-2-08; 8:45 am]

BILLING CODE 1610-01-M